DEPARTMENT OF AGRICULTURE

Submission for OMB Review; Comment Request

December 17, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Advance Biofuel Payment Program—Section 9005.

OMB Control Number: 0570-0057.

Summary of Collection: Section 9005 of Title IX of the Food, Conservation, and Energy Act of 2008 (2008 Farm Bill), authorizes the Agency to enter into contracts to make payments to eligible entities to support and ensure an expanding production of advanced biofuels. Entities eligible to receive payments under the Program are producers of advanced biofuels that meet all of the requirements of the Program. The Program is appropriated funding for fiscal years 2009 through 2012.

Need and Use of the Information: Advanced biofuel producers who participate in the Program, enroll in the Program by submitting an application (Form RD 9005-1) that includes specific information about the producer and the producer's advanced biofuel biorefineries. The information is used to determine whether the advanced biofuel producer was eleigible to participate in the Program and whether the advanced biofuel being produced was eligible for payments under the program. Failure to collect proper information could result in improper determination of eligibility and improper payments.

Description of Respondents: Business or other for-profits; Individuals.

Number of Respondents: 159.

Frequency of Responses: Reporting: Quarterly, Monthly, Annually.

Total Burden Hours: 658.

Rural Business-Cooperative Service

Title: Repowering Assistance Payments to Eligible Biorefineries.

OMB Control Number: 0570-0058.

Summary of Collection: This program is authorized under Title IX, Section 9004, of the Food, Conservation, and Energy Act of 2008 (Pub. L. 110-246). The program is to provide financial incentives to biorefineries in existence on the date of the enactment of the 2008 Farm Bill, to replace the use of fossil fuels used to produce heat or power at their facilities by installing new systems that use renewable biomass, or to produce new energy from renewable biomass.

Need and Use of the Information: Applicants must submit a complete application including relevant data to allow for technical analysis of existing facilities. Rural Business Service will use the information collected to determine the eligibility of biorefineries to participate in the program. Payments will be made based on ranking of applicants in relation to project cost, cost-effectiveness, availability of renewable biomass and the reduction of fossil fuel usage resulting from the installation of a renewable biomass system.

Description of Respondents: Business or other for-profits; State, Local and Tribal Governments; Individuals.

Number of Respondents: 16.

Frequency of Responses: Reporting: Quarterly, Monthly, Annually.

Total Burden Hours: 1,381.

Charlene Parker,
Departmental Information Collection Clearance Officer.

[FR Doc. E9-30474 Filed 12-22-09; 8:45 am]

BILLING CODE 3410-XT-P